DEPARTMENT OF JUSTICE

Notice of Lodging of Consent Decree Under the Clean Water Act

Under 28 CFR 50.7, notice is hereby given that on July 12, 2005, a proposed Consent Decree in United States and State of Louisiana v. City of New Iberia, Civil Action No. 04-1351 was lodged with the United States District Court for the Western District of Louisiana.

In this action the United States, and its co-plaintiff the State of Louisiana, sought injunctive relief and a civil penalty to address sanitary sewer overflows and other violations of the Clean Water Act and the National Pollutant Discharge Elimination System (“NPDES”) permits issued to the City of New Iberia for the Admiral Doyle and Tete Bayou publicly owned treatment works. Under the proposed Consent Decree, the City of New Iberia has agreed to build a new treatment works to replace the Admiral Doyle treatment works. The City will perform a comprehensive characterization, evaluation, and rehabilitation of its collection system and expedite the elimination of certain high priority sewer overflows from the system. In addition, the City will share in the cost associated with the construction, operation and maintenance of an equalization basin for the Tete Bayou sewage treatment works, which is being built by the Sewerage District No 1 of Iberia Parish, the co-owner of the Tete Bayou Plant. The Consent Decree also requires the City to adopt and implement a plan for identifying and eliminating illegal storm water connections on private property to the publicly owned or operated collection system; implement a maintenance program for the collection system to provide for the proper operation and maintenance of equipment while minimizing failures, malfunctions, and line blockages; and develop and implement an emergency response plan to adequately protect the health and welfare of persons in the event of any sanitary sewer overflows. The City will pay a civil penalty of $235,000 for past effluent and sewer overflow violations, one half of which will be paid to the United States and half of which will be paid to the State.

The Department of Justice will receive for a period of thirty (30) days from the date of this publication comments relating to the Consent Decree. Comments should be addressed to the Assistant Attorney General, Environment and Natural Resources Division, P.O. Box 7611, U.S. Department of Justice, Washington, DC 20044-7611, and should refer to United States v. City of New Iberia, D.J. Ref. No. 90-5-1-1-07473/1.

The Consent Decree may be examined during the public comment period on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $28.25 (25 cents per page reproduction cost) payable to the U.S. Treasury.

Catherine McCabe,
Deputy Section Chief, Environmental Enforcement Section, Environment and Natural Resources Division.

[FR Doc. 05-14891 Filed 7-26-05; 8:45 am]

BILLING CODE 4410-15-M